DEPARTMENT OF HOMELAND SECURITY

Federal Emergency Management Agency

[Docket ID FEMA-2015-0001; Internal Agency Docket No. FEMA-B-1532]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 29, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1532, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: September 9, 2015.
Roy E. Wright,
Deputy Associate Administrator for Insurance and Mitigation, Department of Homeland Security, Federal Emergency Management Agency.

I. Watershed-based studies:

Community | Community map repository address
Lower Big Blue Watershed
Maps Available for Inspection Online at: http://www.fema.gov/preliminaryfloodhazarddata
Marshall County, Kansas, and Incorporated Areas
City of Axtell | City Hall, 306 Maple Street, Axtell, KS 66403.
City of Beattie | City Hall, 302 Center Street, Beattie, KS 66406.
City of Blue Rapids | City Hall, 04 Public Square, Blue Rapids, KS 66411.
City of Frankfort | City Hall, 109 North Kansas Avenue, Frankfort, KS 66427.
City of Marysville | City Hall, 209 North 8th Street, Marysville, KS 66508.
City of Oketo | City Hall, 106 Center Street, Oketo, KS 66518.
City of Vermillion | City Hall, 102 Main Street, Vermillion, KS 66544.
City of Waterville | City Hall, 136 East Commercial Street, Waterville, KS 66548.
Unincorporated Areas of Marshall County | County Courthouse, 1201 Broadway Street, Marysville, KS 66508.
Cuyahoga Watershed
Maps Available for Inspection Online at: http://www.fema.gov/preliminaryfloodhazarddata
Portage County, Ohio, and Incorporated Areas
City of Kent | Building Services Division, 930 Overholt Road, Kent, OH 44240.
Unincorporated Areas of Portage County | Portage County Building Department, 449 South Meridian Street, 1st Floor, Ravenna, OH 44266.

II. Non-watershed-based studies:

Community | Community map repository address
Alameda County, CA and Incorporated Areas
Maps Available for Inspection Online at: http://www.fema.gov/preliminaryfloodhazarddata
Project: 11-09-1226S Preliminary Date: April 16, 2015
City of Alameda | City Hall West, 950 West Mall Square, Room 110, Alameda, CA 94501.
City of Albany | City Hall, 1000 San Pablo Avenue, Albany, CA 94706.
City of Berkeley | Permit Service Center, 2120 Milvia Street, Berkeley, CA 94704.
City of Emeryville | Engineering Department, 1333 Park Avenue, Emeryville, CA 94608.
City of Hayward | Public Works Administration, 777 B Street, Hayward, CA 94541.
City of Oakland | Permit Center, 250 Frank H. Ogawa Plaza, Room 2114, 2nd Floor, Oakland, CA 94612.
City of San Leandro | Division of Building & Safety, 835 East 14th Street, San Leandro, CA 94577.
Unincorporated Areas of Alameda County | Public Works Agency, 399 Elmhurst Street, #113, Hayward, CA 94544.
Riverside County, CA and Incorporated Areas
Maps Available for Inspection Online at: http://www.fema.gov/preliminaryfloodhazarddata
Project: 10-09-0021S Preliminary Date: October 27, 2014
City of La Quinta | City Hall, Community Development Department, 78-495 Calle Tampico, La Quinta, CA 92253.
City of San Jacinto | 166 East Main Street, Suite #2, San Jacinto, CA 92583.
Unincorporated Areas of Riverside County | Riverside County Flood Control and Water Conservation District, 1995 Market Street, Riverside, CA 92501.
Riverside County, CA and Incorporated Areas
Maps Available for Inspection Online at: http://www.fema.gov/preliminaryfloodhazarddata
Project: 15-09-0361S Preliminary Date: June 8, 2015
City of Coachella | Community Development Department, 1515 Sixth Street, Coachella, CA 92236.
City of Indio | Engineering Services Division, 100 Civic Center Mall, Indio, CA 92201.
City of La Quinta | City Hall, Community Development Department, 78-495 Calle Tampico, La Quinta, CA 92253.
Unincorporated Areas of Riverside County | Riverside County Flood Control and Water Conservation District, 1995 Market Street, Riverside, CA 92501.
Sacramento County, CA and Incorporated Areas
Maps Available for Inspection Online at: http://www.fema.gov/preliminaryfloodhazarddata
Project: 15-09-0380S Preliminary Date: April 30, 2015
City of Galt | 495 Industrial Drive, Galt, CA 95632.
Unincorporated Areas of Sacramento County | 827 7th Street, Suite 301, Sacramento, CA 95814.
San Joaquin County, CA and Incorporated Areas
Maps Available for Inspection Online at: http://www.fema.gov/preliminaryfloodhazarddata
Project: 15-09-0380S Preliminary Date: April 30, 2015
Unincorporated Areas of San Joaquin County | 1810 East Hazelton Avenue, Stockton, CA 95205.
Clinton County, IA and Incorporated Areas
Maps Available for Inspection Online at: http://www.fema.gov/preliminaryfloodhazarddata
Project: 11-07-0653S Preliminary Date: April 30, 2015
City of Clinton | City Hall, 611 South 3rd Street, Clinton, IA 52732.
Crow Wing County, MN and Incorporated Areas
Maps Available for Inspection Online at: http://www.fema.gov/preliminaryfloodhazarddata
Project: 12-05-8953S Preliminary Date: June 30, 2011
City of Baxter | City Hall, 13190 Memorywood Drive, Baxter, MN 56425.
City of Brainerd | City Hall, 501 Laurel Street, Brainerd, MN 56401.
City of Breezy Point | City Hall, 8319 County Road 11, Breezy Point, MN 56472.
City of Crosby | City Hall, 2 Second Street Southwest, Crosby, MN 56441.
City of Crosslake | City Hall, 37028 County Road 66, Crosslake, MN 56442.
City of Cuyuna | City Hall, 24945 Minnesota Avenue, Deerwood, MN 56444.
City of Deerwood | City Hall, 23770 Forest Road, Deerwood, MN 56444.
City of Emily | City Hall, 39811 State Highway 6, Emily, MN 56447.
City of Fifty Lakes | City Hall, 40447 Town Hall Road, Fifty Lakes, MN 56448.
City of Fort Ripley | 930 Oak Drive North, Fort Ripley, MN 56449.
City of Garrison | City Hall, 27069 Central Street, Garrison, MN 56450.
City of Ironton | City Hall, 309 3rd Street, Ironton, MN 56455.
City of Jenkins | City Hall, 33861 Cottage Avenue, Jenkins, MN 56474.
City of Manhattan Beach | City Hall, 39148 County Road 66, Manhattan Beach, MN 56442.
City of Nisswa | City Hall, 5442 City Hall Street, Nisswa, MN 56468.
City of Pequot Lakes | City Hall, 4638 County Road 11, Pequot Lakes, MN 56472.
City of Riverton | City Hall, 16663 Main Street, Riverton, MN 56455.
City of Trommald | City Hall, 18105 Whitetail Street, Trommald, MN 56441.
Unincorporated Areas of Crow Wing County | Land Services Office, Environmental Services, 322 Laurel Street, Suite 14, Brainerd, MN 56401.
Passaic County, NJ (All Jurisdictions)
Maps Available for Inspection Online at: http://www.fema.gov/preliminaryfloodhazarddata
Project:10-02-0672S Preliminary Date: January 9, 2015
Borough of Bloomingdale | Municipal Building, Clerk's Office, 101 Hamburg Turnpike, Bloomingdale, NJ 07403.
Borough of Haledon | Municipal Complex, Building Department, 510 Belmont Avenue, Haledon, NJ 07508.
Borough of Hawthorne | Borough Hall, Building Department, 445 Lafayette Avenue, Hawthorne, NJ 07506.
Borough of North Haledon | Municipal Building, Construction Office, 103 Overlook Avenue, North Haledon, NJ 07508.
Borough of Pompton Lakes | Municipal Building, 25 Lenox Avenue, Pompton Lakes, NJ 07442.
Borough of Prospect Park | Municipal Building, 106 Brown Avenue, Prospect Park, NJ 07508.
Borough of Ringwood | Municipal Building, Clerk's Office, 60 Margaret King Avenue, Ringwood, NJ 07456.
Borough of Totowa | Municipal Complex, Clerk's Office, 537 Totowa Road at Cherba Place, Totowa, NJ 07512.
Borough of Wanaque | Municipal Building, 579 Ringwood Avenue, Wanaque, NJ 07465.
Borough of Woodland Park | Municipal Building, Code Enforcement Office, 5 Brophy Lane, Woodland Park, NJ 07424.
City of Clifton | City Hall, Engineering Department, 900 Clifton Avenue, Clifton, NJ 07013.
City of Passaic | City Hall, 330 Passaic Street, Passaic, NJ 07055.
City of Paterson | City Hall, Clerk's Office, 155 Market Street, Paterson, NJ 07505.
Township of Little Falls | Township Hall, 225 Main Street, Little Falls, NJ 07424.
Township of Wayne | Township Hall, Engineering Department, 475 Valley Road, Wayne, NJ 07470.
Township of West Milford | Department of Public Works Administration Building, Engineering Division, 30 Lycosky Drive, West Milford, NJ 07480.
Somerset County, NJ (All Jurisdictions)
Maps Available for Inspection Online at: http://www.fema.gov/preliminaryfloodhazarddata
Project:15-02-1292S Preliminary Date: June 30, 2014
Borough of Manville | Municipal Complex, 325 North Main Street, Manville, NJ 08835.
Borough of Millstone | Millstone Borough Hall, 1353 Main Street, Hillsborough, NJ 08844.
Borough of Rocky Hill | Municipal Building, 15 Montgomery Avenue, Rocky Hill, NJ 08553.
Township of Franklin | Township of Franklin Engineering Department, 475 Demott Lane, Somerset, NJ 08873.
Township of Hillsborough | Municipal Complex, Engineering Department, 379 South Branch Road, Hillsborough, NJ 08844.
Township of Montgomery | Township of Montgomery Municipal Offices, 2261 Route 206 North, Belle Mead, NJ 08502.
Island County, Washington, and Incorporated Areas
Maps Available for Inspection Online at: http://www.fema.gov/preliminaryfloodhazarddata
Project: 11-10-0425S Preliminary Date: March 12, 2015
City of Langley | City Hall, 112 2nd Street, Langley, WA 98260.
City of Oak Harbor | City Hall, 865 Southeast Barrington Drive, Oak Harbor, WA 98277.
Town of Coupeville | Town Hall, 4 Northeast 7th Street, Coupeville, WA 98239.
Unincorporated Areas of Island County | Island County Annex, 1 Northeast 6th Street, Coupeville, WA 98239.

[FR Doc. 2015-24758 Filed 9-29-15; 8:45 am]

BILLING CODE 9110-12-P